NUCLEAR REGULATORY COMMISSION

10 CFR Part 50

[NRC-2018-0291]

RIN 3150-AK23

American Society of Mechanical Engineers Code Cases and Update Frequency; Correction

AGENCY: Nuclear Regulatory Commission.

ACTION: Final rule; correction.

SUMMARY: The U.S. Nuclear Regulatory Commission (NRC) is correcting a final rule that was published in the Federal Register on July 17, 2024, regarding changes to its regulations to incorporate by reference revisions of three regulatory guides, which would approve new, revised, and reaffirmed code cases published by the American Society of Mechanical Engineers. This action is necessary to correct a misspelled word, a grammatical error, an amendatory instruction, and footnote references.

DATES: The correction is effective August 16, 2024.

ADDRESSES: Please refer to Docket ID NRC-2018-0291 when contacting the NRC about the availability of information for this action. You may obtain publicly available information related to this action by any of the following methods:

• Federal Rulemaking Website: Go to https://www.regulations.gov and search for Docket ID NRC-2018-0291. Address questions about NRC dockets to Helen Chang; telephone: 301-415-3228; email: Helen.Chang@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in the SUPPLEMENTARY INFORMATION section.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

• Technical Library: The Technical Library, which is located at Two White Flint North, 11545 Rockville Pike, Rockville, Maryland 20852, is open by appointment only. Interested parties may make appointments to examine documents by contacting the NRC Technical Library by email at Library.Resource@nrc.gov between 8 a.m. and 4 p.m. (ET), Monday through Friday, except Federal holidays.

FOR FURTHER INFORMATION CONTACT: Tyler Hammock, Office of Nuclear Material Safety and Safeguards, telephone: 301-415-1381, email: Tyler.Hammock@nrc.gov; or Bruce Lin, Office of Nuclear Regulatory Research, telephone: 301-415-2446, Bruce.Lin@nrc.gov. Both are staff of the U.S. Nuclear Regulatory Commission, Washington, DC 20555-0001.

SUPPLEMENTARY INFORMATION: The NRC may post materials related to this document, including public comments, on the Federal rulemaking website at https://www.regulations.gov under Docket ID NRC-2018-0291. In addition, the Federal rulemaking website allows members of the public to receive alerts when changes or additions occur in a docket folder. To subscribe: (1) navigate to the docket folder (NRC-2018-0291); (2) click the “Subscribe” link; and (3) enter an email address and click on the “Subscribe” link.

Corrections

In FR Doc. 2024-15288, published at 89 FR 58039 on July 17, 2024, the NRC makes the following corrections:

Preamble

1. On page 58041, in the third column, the sentence “Licensees seeking to use a later edition in the middle of an IST or ISI interval must still submit an exemption request for NRC review and approval.” is corrected to read “The NRC will continue to review mid-ISI interval requests in accordance with the existing process described in 10 CFR 50.55a(g)(4)(iv) and Regulatory Issue Summary 2004-12, “Clarification on Use of Later Editions and Addenda to the ASME OM Code and Section XI,” dated July 28, 2004.”

2. On page 58052, in the first column, under “Appendix J to 10 CFR part 50,” remove the last sentence.

Regulatory Text

3. In amendatory instruction 2 for § 50.55a:

a. On page 58056, starting in the first column, paragraph (f)(4)(ii) is corrected;

b. On page 58056, in the second column, in paragraph (g)(4), “BPVC” is corrected to read “BPV”; and

c. On page 58057, in the third column, in paragraph (g)(5)(ii), “intervalduring” is corrected to read “interval during”.

The correction reads as follows:

§ 50.55a [Corrected]

(f) * * *

(4) * * *

(ii) Applicable IST Code: Successive code of record intervals. Inservice tests to verify operational readiness of pumps and valves, whose function is required for safety, conducted during successive code of record intervals must comply with the requirements of the latest edition and addenda of the ASME OM Code incorporated by reference in paragraph (a)(1)(iv) of this section no more than18 months before the start of the code of record interval (or the optional ASME Code Cases listed in NRC Regulatory Guide 1.147 or NRC Regulatory Guide 1.192 as incorporated by reference in paragraphs (a)(3)(ii) and (iii) of this section, respectively), subject to the conditions listed in paragraph (b) of this section.

4. On page 58058, in the second column, amendatory instruction 3 and the accompanying regulatory text for appendix J to part 50 is corrected to read:

3. In appendix J to part 50, in section III of option A, revise paragraph D.1.(a) to read as follows:

Appendix J to Part 50—Primary Reactor Containment Leakage Testing for Water-Cooled Power Reactors

* * * * *

Option A—Prescriptive Requirements

* * * * *

III. * * *

D. * * * 1. * * *

(a) After the preoperational leakage rate tests, a set of three Type A tests shall be performed, at approximately equal intervals during each inservice inspection interval, as defined in § 50.55a(y). The third test of each set shall be conducted when the plant is shut down for the final plant inservice inspections of the inservice inspection interval.[2]

* * * * *

[2] See footnote 1.

* * * * *

Dated: July 22, 2024.
For the Nuclear Regulatory Commission.
Helen Chang,
Acting Chief, Regulatory Analysis and Rulemaking Support Branch, Division of Rulemaking, Environmental, and Financial Support, Office of Nuclear Material Safety and Safeguards.

[FR Doc. 2024-16404 Filed 7-26-24; 8:45 am]

BILLING CODE 7590-01-P